DEPARTMENT OF HOMELAND SECURITY

Coast Guard

33 CFR Part 117

[Docket No. USCG-2017-0325]

Drawbridge Operation Regulation; Quantuck Canal, Westhampton Beach, NY

AGENCY: Coast Guard, DHS.

ACTION: Notice of deviation from drawbridge regulation.

SUMMARY: The Coast Guard has issued a temporary deviation from the operating schedule that governs the West Bay Bridge across the Quantuck Canal, mile 0.1 at Westhampton Beach, New York. This action is necessary to complete rehabilitation of the bascule leaves of the drawbridge. The deviation will allow the bridge to open only one bascule span in order to provide passage for vessels requiring an opening.

DATES: This deviation is effective from 12:01 a.m. on October 2, 2017 to 11:59 p.m. on March 30, 2018.

ADDRESSES: The docket for this deviation, USCG-2017-0325, is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email james.m.moore2@uscg.mil.

SUPPLEMENTARY INFORMATION: The Suffolk County Department of Public Works, the owner of the bridge, requested a temporary deviation in order to facilitate reconstruction of the bascule leaves.

The West Bay Bridge across the Quantuck Canal, mile 0.1, at Westhampton Beach, New York is a double-leaf bascule bridge offering mariners a vertical clearance of 11 feet at mean high water and 13.3 feet at mean low water in the closed position. Horizontal clearance is 50 feet. Utilization of a work barge placed underneath one of the bascule leaves will reduce horizontal clearance to 25 feet. The existing drawbridge operating regulations are listed at 33 CFR 117.799(d).

This temporary deviation will allow the Beach Lane Bridge to open only one of the two bascule spans for bridge openings from 12:01 a.m. on October 2, 2017 to 11:59 p.m. on March 30, 2018. Dual lift span operations will be available, provided 48 hours of advance notice is furnished to the owner of the bridge.

The majority of vessels requiring bridge openings are sailing vessels and yachts transiting the waterway. Discussion with the proprietor of the Modern Yachts Marina located in the vicinity of the bridge confirms typical recreational traffic will continue to be able to proceed through the navigation opening of the bridge during one-leaf operations. Moreover, the bulk of recreational traffic that utilizes the waterway is largely seasonal in nature, peaking during the late spring, summer and early autumn months. Little to no recreational traffic transits the Quantuck Canal throughout the winter. Small scale tug/barge combinations occasionally transit the Quantuck Canal, but such commercial craft are generally limited in size. Mariners concur that the requirement to provide the bridge owner 48 hours of advance notice for dual lift span operations will not impede overall operations.

Vessels that can pass under the bridge without an opening may do so at all times. The bridge will be able to open for emergencies and there is an alternate route for vessels unable to pass through the bridge when in the closed position.

The Coast Guard will also inform the users of the waterways through our Local and Broadcast Notices to Mariners of the change in operating schedule for the bridge so vessel operators can arrange their transits to minimize any impact caused by this temporary deviation.

In accordance with 33 CFR 117.35(e), the drawbridge must return to its regular operating schedule immediately at the end of the effective period of this temporary deviation. This deviation from the operating regulations is authorized under 33 CFR 117.35.

Dated: June 15, 2017.
C.J. Bisignano,
Supervisory Bridge Management Specialist, First Coast Guard District.

[FR Doc. 2017-13854 Filed 6-30-17; 8:45 am]

BILLING CODE 9110-04-P